NUCLEAR REGULATORY COMMISSION

[Docket No. 50-440; NRC-2020-0188]

Energy Harbor Nuclear Corp.; Energy Harbor Nuclear Generation LLC; Perry Nuclear Power Plant, Unit No. 1

AGENCY: Nuclear Regulatory Commission.

ACTION: Environmental assessment and finding of no significant impact; issuance.

SUMMARY: The U.S. Nuclear Regulatory Commission (NRC) is considering the issuance of an amendment to Facility Operating License No. NPF-58, issued to Energy Harbor Nuclear Corp. (EHNC) and Energy Harbor Nuclear Generation LLC, for operation of the Perry Nuclear Power Plant, Unit No. 1 (PNPP), located near Lake Erie in Lake County, Ohio. The proposed action would amend the expiration of Facility Operating License No. NPF-58 from March 18, 2026, to November 7, 2026. Specifically, the expiration date of PNPP's full-power operating license (FPOL) would be revised such that it would expire 40 years from the date of issuance of the FPOL, as is permitted by the NRC's regulations.

DATES: The environmental assessment (EA) and finding of no significant impact (FONSI) referenced in this document is available on September 29, 2020.

ADDRESSES: Please refer to Docket ID NRC-2020-0188 when contacting the NRC about the availability of information regarding this document. You may obtain publicly-available information related to this document using any of the following methods:

• Federal Rulemaking website: Go to https://www.regulations.gov/ and search for Docket ID NRC-2020-0188. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The ADAMS accession number for each document referenced (if it is available in ADAMS) is provided the first time that it is mentioned in this document.

FOR FURTHER INFORMATION CONTACT: Scott P. Wall, Office of Nuclear Reactor Regulation; U.S. Nuclear Regulatory Commission, Washington, DC 20555-0001; telephone: 301-415-2855; email: Scott.Wall@nrc.gov.

SUPPLEMENTARY INFORMATION:

I. Introduction

The NRC is considering the issuance of an amendment to Facility Operating License No. NPF-58, issued to EHNC and Energy Harbor Nuclear Generation LLC (collectively, the licensees), for operation of PNPP, located near Lake Erie in Lake County, Ohio. The licensee requested the amendment by letter dated March 26, 2020 (ADAMS Accession No. ML20086K773), as supplemented by letter dated July 30, 2020 (ADAMS Accession No. ML20212L544). If approved, the amendment would revise the expiration date of the license such that it would expire 40 years from the date of the issuance of the FPOL, as is permitted by section 50.51 of title 10 of the Code of Federal Regulations (10 CFR). In accordance with 10 CFR 51.21, the NRC prepared the following EA that analyzes the environmental impacts of the proposed licensing action. Based on the results of this EA, and in accordance with 10 CFR 51.31(a), the NRC has determined not to prepare an environmental impact statement for the proposed licensing action and is issuing a FONSI.

II. Environmental Assessment

Description of the Proposed Action

The proposed action would revise the expiration date of PNPP's Facility Operating License such that it would expire 40 years from the date of the issuance of the FPOL, as permitted by 10 CFR 50.51. The proposed action would revise the expiration date of the Facility Operating License No. NPF-58 from March 18, 2026, to November 7, 2026, which is 40 years from the date of issuance of the FPOL (November 7, 1986).

The proposed action is also described in the licensee's application dated March 26, 2020, as supplemented by letter dated July 30, 2020.

Need for the Proposed Action

On March 18, 1986, the NRC issued a low-power testing license (No. NPF-45) that authorized the licensee to operate PNPP at up to 5 percent of rated power. On November 7, 1986, the NRC issued a FPOL (No. NPF-58) that authorized the licensee to operate PNPP at up to 100 percent of rated power, with an expiration date 40 years from the date of the issuance of the low-power license.

The proposed action would allow the licensee to recapture the approximate 7.7-month period of low-power operation and extend the license expiration date to November 7, 2026. This action is consistent with NRC policy established in the Staff Requirements Memorandum (SRM) for SECY-98-296, “Staff Requirements—SECY-98-296—Agency Policy Regarding Licensee Recapture of Low-Power Testing or Shutdown Time for Nuclear Power Plants,” dated March 30, 1999 (ADAMS Accession No. ML20213A739) and SECY-98-296, “Agency Policy Regarding Licensee Recapture of Low-Power Testing or Shutdown Time for Nuclear Power Plants,” dated December 21, 1998, available at (ADAMS Accession No. ML992870025).

Environmental Impacts of the Proposed Action

The proposed action would amend the PNPP Facility Operating License such that it would expire 40 years from the date of the issuance of the facility's FPOL.

NUREG-0884, “Final Environmental Statement Related to the Operation of Perry Nuclear Power Plant, [Unit Nos.] 1 and 2,” dated August 1982 (ADAMS Accession No. ML15134A060), concluded that PNPP could operate with minimal environmental impact. The proposed action would not affect the design or operation of PNPP and would not involve any modifications to or increase the licensed power for the plant. Similarly, the proposed action would not significantly increase the probability or consequences of accidents or change the types of effluents released offsite. Because the proposed approximate 7.7-month extension of operation represents only a small fraction of the 40-year operating life considered in NUREG-0884, there would be no significant increase in the amount of any effluent released or waste generated, and no significant increase in occupational or public radiation exposure. The nominal additional quantities of effluents and waste generated during the proposed approximate 7.7-month period of extension would be in accordance with current operating requirements and regulatory limits. Therefore, the NRC concludes that there would be no significant radiological or non-radiological environmental impacts associated with the proposed action.

Environmental Impacts of the Alternatives to the Proposed Action

As an alternative to the proposed action, the NRC considered denial of the license amendment request (i.e., the “no-action” alternative). Denial of the license amendment request would result in no change in current environmental impacts. Accordingly, the environmental impacts of the proposed action and the no-action alternative would be similar.

Alternative Use of Resources

There are no unresolved conflicts concerning alternative uses of available resources under the proposed action.

Agencies or Persons Consulted

On August 5, 2020, the NRC notified State of Ohio representatives of the EA and FONSI. Additionally, in accordance with 10 CFR 50.91, the licensee provided copies of its application to the State of Ohio, and the NRC staff will consult with this State prior to issuance of the amendment. No additional Federal or State of Ohio agencies or persons were consulted regarding the environmental impact of the proposed action.

III. Finding of No Significant Impact

The licensee has requested an amendment to revise the expiration date of the PNPP license such that it would expire 40 years from the date of the issuance of the FPOL, as is permitted by 10 CFR 50.51. Specifically, the proposed action would revise the expiration date of Facility Operating License No. NPF-58 from March 18, 2026 to November 7, 2026, which is 40 years from the issuance of the FPOL on November 7, 1986.

The proposed action is in accordance with the licensee's application dated March 26, 2020, as supplemented by letter dated July 30, 2020.

The NRC is considering issuing the requested amendment. The proposed action would not significantly affect plant safety, would not have a significant adverse effect on the probability of an accident occurring, and would not have any significant radiological or non-radiological impacts. The reason the human environment would not be significantly affected is that the proposed action would not involve any construction or modification of the facility. Consistent with 10 CFR 51.21, the NRC conducted the EA for the proposed action, and this FONSI incorporates by reference the EA in Section II of this notice. Therefore, the NRC concludes that the proposed action will not have a significant effect on the quality of the human environment. Accordingly, the NRC has determined not to prepare an environmental impact statement for the proposed action.

As required by 10 CFR 51.32(a)(5), the related environmental document which provides the latest description of environmental conditions at PNPP is NUREG-0884. Other than the licensee's letter dated March 26, 2020, as supplemented by letter dated July 30, 2020, there are no other environmental documents associated with this review. These documents are available for public inspection as indicated in Section I of this notice.

Dated: September 24, 2020.
For the Nuclear Regulatory Commission.
Scott P. Wall,
Senior Project Manager, Plant Licensing Branch III, Division of Operating Reactor Licensing, Office of Nuclear Reactor Regulation.

[FR Doc. 2020-21513 Filed 9-28-20; 8:45 am]

BILLING CODE 7590-01-P